DEPARTMENT OF HEALTH AND HUMAN SERVICES

Office of the National Coordinator for Health Information Technology; American Health Information Community Confidentiality and Security Workgroup Meeting

ACTION: Meeting cancellation.

SUMMARY: This notice announces the cancellation of the eighth meeting of the American Health Information Community Consumer Empowerment Workgroup in accordance with the Federal Advisory Committee Act (Pub. L. 92-463, 5 U.S.C., App.).

Canceled Date/Time: August 14, 2006, 1 p.m. to 5 p.m.

ADDRESSES: Mary C. Switzer Building (330 C Street, SW., Washington, DC 20201), Conference Room 4090.

FOR FURTHER INFORMATION CONTACT: For further information about the Consumer Empowerment Workgroup, please visit the following Web site: http://www.hhs.gov/healthit/ahic/ce_main.html.

Dated: August 7, 2006.
Judith Sparrow,
Director, American Health Information Community, Office of Programs and Coordination, Office of the National Coordinator for Health Information Technology.

[FR Doc. 06-6975 Filed 8-16-06; 8:45 am]

BILLING CODE 4150-24-M